INTERNATIONAL TRADE COMMISSION

[Investigation No. 337-TA-739]

Certain Ground Fault Circuit Interrupters and Products Containing Same; Notice of Commission Determination Not To Review an Initial Determination Granting Complainant's Motion To Amend the Third Amended Complaint and Notice of Investigation To Add Coleman Cable, Inc. as a Respondent

AGENCY: U.S. International Trade Commission.

ACTION: Notice.

SUMMARY: Notice is hereby given that the U.S. International Trade Commission has determined not to review an initial determination (“ID”) (Order No. 47) issued by the presiding administrative law judge (“ALJ”) granting complainant's motion to amend the Third Amended Complaint and Notice of Investigation to add Coleman Cable, Inc. as a respondent in the above-referenced investigation.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 8, 2010, based on a complaint filed by Leviton Manufacturing Co. (“Leviton”) of Melville, New York. 75 FR 62420 (Oct. 8, 2010). The complaint alleged violations of section 337 of the Tariff Act of 1930, as amended, 19 U.S.C. 1337, in the importation into the United States, the sale for importation, and the sale within the United States after importation of certain ground fault circuit interrupters and products containing the same by reason of infringement of various claims of United States Patent Nos. 7,463,124; 7,737,809; and 7,764,151. The Commission's notice of investigation named numerous respondents, including respondent The Designers Edge, Inc. of Bellevue, Washington (“Designers Edge”).

On April 28, 2011, Leviton moved to amend the Third Amended Complaint and Notice of Investigation to add Coleman Cable, Inc. (“Coleman Cable”) as a respondent, asserting that good cause exists to add Coleman Cable because a press release on April 4, 2011, indicated that Coleman Cable had acquired the assets of respondent Designers Edge and is thus in a position to control the accused importation and sales activities of Designers Edge. Leviton argued that the inclusion of Coleman Cable will assist in developing a complete record, obtaining discovery, and affording effective relief, and that no undue prejudice to the public or to the existing respondents will result from the inclusion. No responses to Leviton's motion were filed. On May 19, 2011, the ALJ issued the subject ID (Order No. 47). None of the parties petitioned for review of the ID.

The Commission has determined not to review the subject ID.

The authority for the Commission's determination is contained in section 337 of the Tariff Act of 1930, as amended (19 U.S.C. 1337), and in Part 210 of the Commission's Rules of Practice and Procedure (19 CFR part 210).

By order of the Commission.
Issued: June 9, 2011.
William R. Bishop,
Acting Secretary to the Commission.

[FR Doc. 2011-14701 Filed 6-14-11; 8:45 am]

BILLING CODE 7020-02-P